DEPARTMENT OF TRANSPORTATION

Surface Transportation Board

[STB Finance Docket No. 34863]

BNSF Railway Company—Acquisition and Operation Exemption—Union Pacific Railroad Company

AGENCY: Surface Transportation Board, DoT.

ACTION: Notice of Exemption.

SUMMARY: Under 49 U.S.C. 10502, the Board is granting a petition for exemption from the prior approval requirements of 49 U.S.C. 11323, et seq., for BNSF Railway Company, a Class I carrier, to acquire and operate approximately 25 miles of rail line of Union Pacific Railroad Company (UP), a Class I carrier, extending from UP milepost 81.1 at Union, CO, to UP milepost 56.1 at Sterling, CO.

DATES: The exemption will be effective on July 13, 2006. Petitions to stay must be filed by June 23, 2006. Petitions to reopen must be filed by July 3, 2006.

ADDRESSES: An original and 10 copies of all pleadings referring to STB Finance Docket No. 34863 must be filed with the Surface Transportation Board, 1925 K Street, NW., Washington, DC 20423-0001. In addition, one copy of all pleadings must be served on petitioner's representative: Sidney L. Strickland, Jr., 3050 K Street, NW., Suite 101, Washington, DC 20007.

FOR FURTHER INFORMATION CONTACT: Joseph H. Dettmar, (202) 565-1600. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: June 7, 2006.
By the Board, Chairman Buttrey and Vice Chairman Mulvey.
Vernon A. Williams,
Secretary.

[FR Doc. E6-9203 Filed 6-12-06; 8:45 am]

BILLING CODE 4915-01-P